DEPARTMENT OF TRANSPORTATION

Federal Aviation Administration

Notice of Opportunity for Public Comment To Change the Land Use From Aeronautical to Non Aeronautical for 1.1 Acres of Airport Land at Norwood Memorial Airport, Norwood, MA

AGENCY: Federal Aviation Administration (FAA), Transportation (DOT).

ACTION: Request for public comments.

SUMMARY: Notice is being given that the FAA is considering a request from the Town of Norwood, MA to change the land use from Aeronautical to Non Aeronautical for 1.1 acres of airport land. The land use change is for land that is no longer needed for aviation use as identified in the 2020 Airport Master Plan. The revenue generated by the lease of airport land will be placed into the airport's operation and maintenance fund.

DATES: Comments must be received on or before September 3, 2020.

ADDRESSES: You may send comments using any of the following methods:

• Federal eRulemaking Portal: Go to http://www.regulations.gov, and follow the instructions on providing comments.

• Fax: 202-493-2251.

• Mail: U.S. Department of Transportation, Docket Operations, M-30, West Building, Ground Floor, Room W12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts, on August 3, 2020.
Julie Seltsam-Wilps,
Deputy Director, ANE-600.

[FR Doc. 2020-17199 Filed 8-5-20; 8:45 am]

BILLING CODE 4910-13-P